OVERSEAS PRIVATE INVESTMENT CORPORATION

July 28, 2005, Board of Directors Meeting; Correction

AGENCY: Overseas Private Investment Corporation, 1100 New York Avenue, NW., Washington, DC.

ACTION: Correction to meeting notice published in Vol. 70, No. 137/Tuesday, July 19, 2005, page 41449.

SUMMARY: OPIC's Board or Directors meeting previously scheduled for 10 a.m. on Thursday, July 28, 2005, has been moved to 9:30 a.m.

New Time and Date: Thursday, July 28, 2005, 9:30 a.m. (open portion); 9:45 a.m. (closed portion).

Contact Person for Information: Information on the meeting may be obtained from Connie M. Downs at (202) 336-8438.

Dated: July 22, 2005.
Connie M. Downs,
Corporate Secretary, Overseas Private Investment Corporation

[FR Doc. 05-14922 Filed 7-25-05; 10:30 am]

BILLING CODE 3210-01-M